DEPARTMENT OF ENERGY

Federal Energy Regulatory Commission

Combined Notice of Filings # 1

March 13, 2007.

Take notice that the Commission received the following electric corporate filings:

Docket Numbers: EC06-155-000.

Applicants: Consumers Energy Company; Entergy Nuclear Palisades, LLC.

Description: Consumers Energy Company submits a compliance filing pursuant to Commission's 2/21/07 order.

Filed Date: 3/6/2007.

Accession Number: 20070306-5050.

Comment Date: 5 p.m. Eastern Time on Tuesday, March 27, 2007.

Take notice that the Commission received the following electric rate filings:

Docket Numbers: ER97-4314-010.

Applicants: Old Dominion Electric Cooperative.

Description: Old Dominion Electric Cooperative submits an updated market power analysis in compliance with FERC's letter order issued 3/2/04.

Filed Date: 3/2/2007.

Accession Number: 20070312-0202.

Comment Date: 5 p.m. Eastern Time on Friday, March 23, 2007.

Docket Numbers: ER00-895-008; ER01-138-004; ER03-1283-007.

Applicants: Delta Person Limited Partnership; Onondaga Cogeneration Limited Partnership; Vineland Energy LLC.

Description: Delta Person Limited Partnership et al submits a non-material change in status related to the market-based rate authority granted each of the project companies.

Filed Date: 3/8/2007.

Accession Number: 20070312-0138.

Comment Date: 5 p.m. Eastern Time on Thursday, March 29, 2007.

Docket Numbers: ER04-1232-006.

Applicants: Southwest Power Pool, Inc.

Description: Southwest Power Pool, Inc submits revised pages to its OATT intended to implement a rate change for Southwestern Public Service Company.

Filed Date: 3/8/2007.

Accession Number: 20070312-0140.

Comment Date: 5 p.m. Eastern Time on Thursday, March 29, 2007.

Docket Numbers: ER06-1549-003; EL06-109-001.

Applicants: Duquesne Light Company.

Description: Duquesne Light Company submits an Affidavit of John F Rosser to support its request for transmission incentive rate treatment and on 3/9/07 submit a correction to this filing.

Filed Date: 3/8/2007; 3/9/2007.

Accession Number: 20070312-0213.

Comment Date: 5 p.m. Eastern Time on Thursday, March 29, 2007.

Docket Numbers: ER07-141-001.

Applicants: Florida Power Corporation.

Description: Florida Power Corp dba as Progress Energy Florida Inc submits a compliance filing concerning a cost-based power sales agreement with the City Mount Dora, Florida.

Filed Date: 3/8/2007.

Accession Number: 20070312-0134.

Comment Date: 5 p.m. Eastern Time on Thursday, March 29, 2007.

Docket Numbers: ER07-607-000.

Applicants: Southern Company Services, Inc.

Description: Southern Company Services Inc (SCS) agent for Alabama Power Company et al submits information associated with the True-Up Informational Filings that SCS submitted to FERC and customers under the OATT on 4/29/04 and 4/29/05.

Filed Date: 3/2/2007.

Accession Number: 20070312-0142.

Comment Date: 5 p.m. Eastern Time on Friday, March 23, 2007.

Docket Numbers: ER07-608-000.

Applicants: Gerdau Ameristeel Energy, Inc.

Description: Gerdau Ameristeel Energy, Inc. submits a petition for acceptance of initial rate schedule waivers and blanket authority.

Filed Date: 3/8/2007.

Accession Number: 20070312-0141.

Comment Date: 5 p.m. Eastern Time on Thursday, March 29, 2007.

Docket Numbers: ER07-609-000.

Applicants: Project Orange Associates L.L.C.

Description: Project Orange Associates LLC submits an application for Order accepting initial tariff, waiving regulations, granting blanket approvals.

Filed Date: 3/8/2007.

Accession Number: 20070312-0143.

Comment Date: 5 p.m. Eastern Time on Thursday, March 29, 2007.

Docket Numbers: ER07-610-000.

Applicants: Golden Spread Electric Cooperative, Inc.

Description: Golden Spread Electric Cooperative, Inc submits Second Revised Sheet 500 and 501 to First Revised Rate Schedule 23 through 33.

Filed Date: 3/8/2007.

Accession Number: 20070312-0133.

Comment Date: 5 p.m. Eastern Time on Thursday, March 29, 2007.

Docket Numbers: ER07-611-000.

Applicants: Southern Company Services, Inc.

Description: Southern Company Services, Inc on behalf of the Southern Companies submits information associated with the True-Up Informational Filing submitted to FERC and customers 5/1/06.

Filed Date: 3/2/2007.

Accession Number: 20070312-0132.

Comment Date: 5 p.m. Eastern Time on Friday, March 23, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Philis J. Posey,
Acting Secretary.

[FR Doc. E7-5006 Filed 3-16-07; 8:45 am]

BILLING CODE 6717-01-P